Title 3—

The President

Proclamation 9105 of April 18, 2014

National Park Week, 2014

By the President of the United States of America

A Proclamation

To honor America's natural beauty and cultural heritage, the National Park Service will offer free admission this weekend. This celebration opens opportunities to take in the majesty of canyons, redwoods, and geysers—to learn the history of Civil War battles and Civil Rights marches. During National Park Week, I encourage Americans to take advantage of the chance to rediscover the great outdoors and reconnect with the American story.

This year marks a significant milestone in America's drive to preserve precious historic sites—the 30th anniversary of the first National Heritage Area. For decades, the National Heritage Areas Program has enabled our Nation to set aside places that define our shared history and that will help future generations understand what it means to be American.

During my time as President, I have been proud to build on this tradition by establishing 10 new National Monuments. These sites honor American heroes from Harriet Tubman to Cesar Chavez. They conserve the diverse wildlife and rugged landscapes that reflect our character as a people. And just as our parks nourish our spirits, they bolster our livelihoods, attracting tourists to communities across our country and bringing customers to local businesses. For every dollar we invest in our National Parks, America generates 10 dollars in economic value.

This week, as we recommit to conserving these cherished lands, let us build new memories, take on new adventures, and experience all they have to offer. To find a National Park in your area, visit www.NPS.gov.

NOW, THEREFORE, I, BARACK OBAMA, President of the United States of America, by virtue of the authority vested in me by the Constitution and the laws of the United States, do hereby proclaim April 19 through April 27, 2014, as National Park Week. I encourage all Americans to visit their National Parks and be reminded of these unique blessings we share as a Nation.

IN WITNESS WHEREOF, I have hereunto set my hand this eighteenth day of April, in the year of our Lord two thousand fourteen, and of the Independence of the United States of America the two hundred and thirty-eighth.

[FR Doc. 2014-09320

Filed 4-22-14; 8:45 am]

Billing code 3295-F4